FEDERAL ELECTION COMMISSION

Sunshine Act Notices

AGENCY: Federal Election Commission.

Previously Announced Date & Time: Tuesday, August 25, 2003, 10 a.m., Meeting Closed to the Public. This Meeting Was Rescheduled to Wednesday, August 27, 2003.

Date and Time: Wednesday, August 27, 2003 at 10 a.m.

Place: 999 E Street, NW., Washington, DC.

Status: This meeting will be closed to the public.

Items To Be Discussed: Compliance matters pursuant to 2 U.S.C. 437g.

Audits conducted pursuant to 2 U.S.C. 437g, 438(b), and Title 26, U.S.C.

Matters concerning participation in civil actions or proceedings or arbitration.

Internal personnel rules and procedures or matters affecting a particular employee.

Date and Time: Thursday, August 28, 2003 at 10 a.m.

Place: 999 E Street, NW., Washington, DC (Ninth Floor).

Status: This meeting will be open to the public.

Items To Be Discussed: Correction and Approval of Minutes.

Draft Advisory Opinion 2003-20: U.S. Representative Silvestre Reyes by J. Fernando Barrueta, Hispanic College Fund, Inc.

Draft Advisory Opinion 2003-22: American Bankers Association and ABA BankPAC, by counsel Kenneth A. Gross and Ki P. Hong.

Notice of Proposed Rulemaking on Mailing Lists.

Notice of Proposed Rulemaking on Telephone Banks.

Routine Administrative Matters.

FOR FURTHER INFORMATION CONTACT: Mr. Ron Harris, Press Officer, Telephone: (202) 694-1220.

Mary W. Dove,
Secretary of the Commission.

[FR Doc. 03-21533 Filed 8-19-03; 11:25 am]

BILLING CODE 6715-01-M